DEPARTMENT OF ENERGY

Federal Energy Regulatory Commission

[Docket No. EL17-59-000]

Joint California Complainants v. Pacific Gas and Electric Company; Notice of Complaint

Take notice that on March 31, 2017, pursuant to sections 206 and 212 of the Federal Energy Regulatory Commission's (Commission) Rules of Practice and Procedure, 18 CFR 385.206 and 385.212 (2016) and section 206 of the Federal Power Act, 16 U.S.C. 824(e) (2012), Joint California Complainants (Complainant) ¹ filed a formal complaint against Pacific Gas and Electric Company (PG&E or Respondent) requesting that the Commission launch an investigation into PG&E's Transmission Owner rates and establish the earliest possible refund effective date, all as more fully explained in the complaint.

¹ The Joint Californian Complainants include the following parties: The Transmission Agency of Northern California; the City of Santa Clara, California; the M-S-R Public Power Agency; the State Water Contractors; the California Public Utilities Commission; the Modesto Irrigation District; and the Sacramento Municipal Utility District.

The Complainants states that a copy of the complaint has been served on the Respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 24, 2017.

Dated: April 4, 2017.
Kimberly D. Bose,
Secretary.

[FR Doc. 2017-07078 Filed 4-7-17; 8:45 am]

BILLING CODE 6717-01-P